DEPARTMENT OF JUSTICE

Government-Owned Invention: Available for Licensing

AGENCY: Justice Management Division, Justice.

ACTION: Notice of availability of invention for licensing.

SUMMARY: The Department of Justice hereby gives notice of the availability of exclusive, partially exclusive, on non-exclusive licenses to practice the invention described in U.S. Patent No. 6,525,579, “Pulse Translational Circuits,” issued February 25, 2003. The Federal Government's patent rights to this invention are assigned to the United States of America, as represented by the Attorney General. Any license granted shall comply with 35 U.S.C. 209 and 37 CFR part 404.

DATES: Applications for a license may be submitted at any time from the date of this notice.

ADDRESSES: Submit application to Deputy Assistant Attorney General/Controller, Justice Management Division, Department of Justice, 950 Pennsylvania Avenue, NW., Washington, DC 20530.

FOR FURTHER INFORMATION CONTACT: Stuart Frisch, General Counsel, or Morton J. Posner, Attorney-Advisor, Justice Management Division, U.S. Department of Justice, 1331 Pennsylvania Avenue, NW., Suite 520-North, Washington, DC 20530; Telephone (202) 514-3452; FAX: (202) 514-4317.

Dated: January 18, 2006.
Lee J. Lofthus,
Deputy Assistant Attorney General/Controller.

[FR Doc. 06-1237 Filed 2-9-06; 8:45 am]

BILLING CODE 4410-AR-M